DEPARTMENT OF ENERGY

Federal Energy Regulatory Commission

[Docket Nos. CP04-36-000, CP04-41-000, and PF03-4-000]

Weaver's Cove Energy, L.L.C. and Mill River Pipeline, L.L.C.; Notice of Status Change of Environmental Review and Expiration of Scoping Period for the Proposed Weaver's Cove LNG Project

December 31, 2003.

The staff of the Federal Energy Regulatory Commission (FERC or Commission) will prepare an environmental impact statement (EIS) that will discuss the environmental impacts of Weaver's Cove Energy L.L.C.'s and Mill River Pipeline L.L.C.'s (collectively referred to as Weaver's Cove) proposed Weaver's Cove LNG Project, which includes facilities in Fall River, Somerset, Swansea, and Freetown, Massachusetts. On December 30, 2003, the Commission gave notice that on December 19, 2003, in Docket Nos. CP04-36-000 and CP04-41-000, Weaver's Cove's applications were filed with the Commission under section 3 and section 7 of the Natural Gas Act and part 153, part 157, and part 284 of the Commission's regulations. That notice gave a deadline of January 13, 2004, for the filing of motions to intervene, protests and comments.

The instant notice announces a final opportunity for interested stakeholders to submit comments on the Weaver's Cove LNG Project before the close of the scoping period. Details on how to submit written comments are provided in the public participation section of this notice. Please note that the scoping period will close on January 30, 2004.

We ¹ are sending this notice to residences within 0.5 mile of the proposed LNG terminal site; potentially-affected landowners along the proposed pipeline routes; Federal, State, and local government agencies; elected officials; environmental and public interest groups; Native American tribes; and local libraries and newspapers. We have asked State and local government representatives to notify their constituents of this planned action and encourage them to comment on their areas of concern.

¹ “We,” “us,” and “our” refer to the environmental staff of the Office of Energy Projects.

Summary of the Proposed Project

Weaver's Cove proposes to construct and operate a liquefied natural gas (LNG) import terminal and natural gas pipelines to import LNG and deliver a baseload sendout of 400 million cubic feet per day (MMcf/d), and a peak sendout of 800 MMcf/d to markets in New England. The facilities would consist of:

• A pier and unloading facilities capable of receiving LNG tankers with a capacity of up to 145,000 cubic meters;

• One LNG storage tank with a capacity of 200,000 cubic meters (4.4 billion cubic feet of gas equivalent);

• Four shell and tube vaporizers supplied by 12 natural gas fired heaters;

• Four truck loading stations to deliver LNG to other storage facilities in the northeastern United States;

• Ancillary utilities, buildings, and service facilities;

• Two 24-inch-diameter pipelines (the 2.52-mile-long Western Pipeline and the 3.6-mile-long Northern Pipeline) to interconnect with the Algonquin Gas Transmission Company pipeline system; and

• Two meter and regulation stations.

A map depicting the proposed terminal site and the two pipeline routes is provided in appendix 1.² ³

² Requests for detailed maps of the facilities may be made to the company directly. Call or e-mail: local 508-678-5700, toll free 1-877-633-5700, or info@weaverscove.com. Be as specific as you can about the location(s) of your area(s) of interest.

³ The appendices referenced in this notice are not being printed in the Federal Register. Copies of all appendices are available on the Commission(s website (http://www.ferc.gov) at the (eLibrary( link or from the Commission(s Public Reference and Files Maintenance Branch, 888 First Street, NE., Washington, DC 20426, or call at (202) 502-8371. For instructions on connecting to eLibrary refer to the last two pages of this notice. Copies of the appendices were sent to all those receiving this notice in the mail.

Weaver's Cove is requesting approval to begin construction of the LNG facilities by late 2004. The approximate duration of construction of the terminal facilities would be 3 years. The duration of pipeline construction would be approximately 5 months. Weaver's Cove proposes to place the project in service in the fourth quarter of 2007.

Land Requirements

The proposed LNG terminal would be on a 73-acre site zoned for industrial use on the Taunton River in Fall River, Massachusetts. The site has been formerly used as an oil refinery and a marine import terminal for petroleum products. The riverfront areas of the site are in a Designated Port Area as defined by the Massachusetts Coastal Zone Management plan.

The project would also require maintenance and improvement dredging of approximately 7 miles of the Federal Navigation Channel within Mount Hope Bay and the Taunton River and a turning basin within the Taunton River to enable the LNG tankers to access the proposed site. The dredging would occur in Massachusetts and Rhode Island. The total volume of dredging including overdredge is anticipated to be about 2,500,000 cubic yards. Weaver's Cove is proposing to reuse the dredged material at the terminal site as general fill material and would create landforms with the material to provide a visual barrier. Dredge disposal alternatives being investigated by Weaver's Cove include confined aquatic disposal cell, confined disposal, or ocean disposal methods.

The EIS Process

The Commission will be the lead Federal agency for this EIS process which is being conducted to satisfy the requirements of the National Environmental Policy Act (NEPA). The Commission will use the EIS to consider the environmental impacts that could result if it issues a Certificate of Public Convenience and Necessity under section 7, and an import authorization under section 3, of the Natural Gas Act for the proposed project. The U.S. Army Corps of Engineers, the U.S. Environmental Protection Agency, Region 1, and the U.S. Coast Guard have agreed to be cooperating agencies and will use the EIS in their decision-making processes. The EIS will also be used by the Massachusetts Executive Office of Environmental Affairs (EOEA) pursuant to a Special Review Procedure established by the Secretary of Environmental Affairs to comply with the Massachusetts Environmental Policy Act regulations.

By this notice, we are formally requesting additional comments and announcing the closing of the process referred to as “scoping.” The main goal of the scoping process is to focus the analysis in the EIS on the important environmental issues. We are soliciting input from the public and interested agencies to help us focus the analysis in the EIS on the potentially significant environmental issues related to the proposed action. All comments received will be considered during the preparation of the EIS which will include our independent analysis of the identified issues.

For the Weaver's Cove LNG Project, the scoping process began on May 2, 2003, with an interagency meeting in Fall River, Massachusetts to discuss the project and the environmental review process with Weaver's Cove and other key Federal and state agencies. On July 11, 2003, the Commission issued a Notice of Intent to Prepare an EIS for the proposed Weaver's Cove LNG Project, request for comments on environmental issues, and notice of joint public scoping meeting (NOI). The FERC staff subsequently conducted a joint public scoping meeting with the Massachusetts EOEA in Swansea, Massachusetts on July 29, 2003, to receive oral comments and concerns about the project.

Prior to receipt of a formal application, the NOI announced that the FERC Staff was initiating its NEPA Pre-filing review on Weaver's Cove's project under Docket No. PF03-4-000.⁴ The purpose of the FERC's NEPA Pre-filing Process is to: (1) Establish a framework for constructive discussion between the project proponents, potentially affected landowners, agencies, and the Commission staff; (2) encourage the early involvement of interested stakeholders to identify issues and study needs; and (3) attempt to identify and resolve issues early, before an application is filed with the FERC.

⁴ To view the NOI and any information filed under PF03-4-000, follow the instructions for using the eLibrary link at the end of this notice.

Our independent analysis of the proposed project will be included in a draft EIS. The draft EIS will be published and mailed to Federal, State, and local agencies, public interest groups, interested individuals, affected landowners, Native American tribes, newspapers, libraries, and the Commission's official service list for this proceeding. A 45-day comment period will be allotted for review of the draft EIS. We will consider all timely comments on the draft EIS and revise the document, as necessary, before issuing the final EIS. In addition, we will consider all comments on the final EIS before we make our recommendations to the Commission.

With this notice, we are asking other Federal, State, local, and tribal agencies with jurisdiction and/or special expertise with respect to the environmental issues to formally cooperate with us in the preparation of the EIS. These agencies may choose to participate once they have evaluated the proposal relative to their responsibilities. Agencies which would like to request cooperating status should follow the instructions for filing comments described later in this notice.

If you are an affected property owner receiving this letter, a Weaver's Cove representative may contact you about the acquisition of an easement to construct, operate, and maintain the planned facilities. You may have already been contacted by Weaver's Cove about the Weaver's Cove LNG Project. A fact sheet has been prepared by the FERC entitled “An Interstate Natural Gas Facility On My Land? What Do I Need To Know?” This fact sheet addresses a number of typically asked questions, including the use of eminent domain and how to participate in the Commission's proceedings. It is available for viewing on the FERC Internet Web site (http://www.ferc.gov).

Public Participation

You can make a difference by providing us with your specific comments or concerns about the project. If you provided comments to us during the pre-filing period, you do not need to resubmit them. For those who will submit comments for the first time, you should focus your comments on the potential environmental effects, reasonable alternatives (including alternative locations), and measures to avoid or lessen environmental impact. The more specific your comments, the more useful they will be. To ensure that your comments are timely and properly recorded, please mail your comments so they will be received in Washington, DC on or before January 30, 2004, and carefully follow these instructions:

• Send an original and two copies of your letter to: Magalie R. Salas, Secretary, Federal Energy Regulatory Commission, 888 First St., NE., Room 1A, Washington, DC 20426;

• Label one copy of your comments for the attention of Gas Branch 1; and

• Reference Docket Nos. CP04-36-000 and CP04-41-000 on the original and both copies.

The Commission strongly encourages you to file your comments electronically via the Internet, in lieu of paper. See 18 CFR 385.2001(a)(1)(iii) and the instructions on the Commission's Web site at http://www.ferc.gov under the “e-Filing” link and the link to the User's Guide. Before you can file comments you will need to create a free account by clicking on “Login to File” and then “New User Account.” You will be asked to select the type of filing you are making. This filing is considered a “Comment on Filing.”

Becoming an Intervenor

In addition to involvement in the EIS scoping process, you may want to become an official party to the proceeding known as an “intervenor.” Intervenors play a more formal role in the process. Among other things, intervenors have the right to receive copies of case-related Commission documents and filings by other intervenors. As mentioned before, the Commission issued on December 30, 2003, a notice announcing the filing of the applications and a deadline of January 13, 2004, to file motions to intervene, protests and comments in this proceeding.

Affected landowners and parties with environmental concerns may be granted intervenor status upon showing good cause by stating that they have a clear and direct interest in this proceeding which would not be adequately represented by any other parties. You do not need intervenor status to have your environmental comments considered.

Availability of Additional Information

Additional information about the project is available from the Commission's Office of External Affairs, at 1-866-208 FERC (3372) or on the FERC Internet Web site (http://www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659, or at FERConlinesupport@ferc.gov. The eLibrary link on the FERC Internet Web site also provides access to the texts of formal documents issued by the Commission, such as orders, notices, and rulemakings.

In addition, the Commission now offers a free service called eSubscription that allows you to keep track of all formal issuances and submittals in specific dockets. This can reduce the amount of time you spend researching proceedings by automatically providing you with notification of these filings, document summaries, and direct links to the documents. To register for this service, go to http://www.ferc.gov/esubscribenow.htm.

Weaver's Cove has established an Internet Web site for this project at http://www.weaverscoveenergy.com. The Web site includes a description of the project, an overview map of the terminal site and pipeline routes, and a link for the public to submit comments on the project. Weaver's Cove will continue to update its website with information about the project, and will always accept comments.

Finally, any future public meetings or site visits will be posted on the Commission's calendar located at http://www.ferc.gov/EventCalendar/EventsList.aspx along with other related information.

Magalie R. Salas,
Secretary.

[FR Doc. E4-35 Filed 1-9-04; 8:45 am]

BILLING CODE 6717-01-P